DEPARTMENT OF ENERGY

Federal Energy Regulatory Commission

[Docket No. IN16-2-000]

ETRACOM LLC; Michael Rosenberg; Notice of Designation of Commission Staff as Non-Decisional

December 16, 2015.

With respect to an order issued by the Commission on December 16, 2015 in the above-captioned docket, with the exceptions noted below, the staff of the Office of Enforcement are designated as non-decisional in deliberations by the Commission in this docket.¹ Accordingly, pursuant to 18 CFR 385.2202 (2015), they will not serve as advisors to the Commission or take part in the Commission's review of any offer of settlement. Likewise, as non-decisional staff, pursuant to 18 CFR 385.2201 (2015), they are prohibited from communicating with advisory staff concerning any deliberations in this docket.

¹ ETRACOM LLC and Michael Rosenberg, 153 FERC ¶ 61,314 (2015).

Exceptions to this designation as non-decisional are:

Larry Parkinson

Lee Ann Watson

Janel Burdick

Maria Brun

Sam Bonar

Gabriel Sterling

Carol Clayton

Wesley Heath

Seema Jain

Blair Hopkin

Nathaniel J. Davis, Sr.,
Deputy Secretary.

[FR Doc. 2015-32129 Filed 12-22-15; 8:45 am]

BILLING CODE P